DEPARTMENT OF THE INTERIOR

Bureau of Land Management

[LLWY910000 L16100000 XX0000]

Notice of Public Meeting; Wyoming Resource Advisory Council

AGENCY: Bureau of Land Management, Interior.

ACTION: Notice of public meeting.

SUMMARY: In accordance with the Federal Land Policy and Management Act of 1976 and the Federal Advisory Committee Act of 1972, the U.S. Department of the Interior, Bureau of Land Management (BLM) Wyoming Resource Advisory Council (RAC) will meet as indicated below.

DATES: The meeting is scheduled for Thursday, October 29, 2015, from 10 a.m. to 6 p.m., and October 30, from 8 a.m. to noon.

ADDRESSES: The meeting will be conducted at the BLM Casper Field Office, 2987 Prospector Drive, Casper, Wyoming.

FOR FURTHER INFORMATION CONTACT: Christian Venhuizen, Wyoming Resource Advisory Council Coordinator, Wyoming State Office, 5353 Yellowstone Road, Cheyenne, WY 82009; telephone 307-775-6103; email cvenhuizen@blm.gov. Persons who use a telecommunications device for the deaf (TDD) may call the Federal Information Relay Service (FIRS) at 1-800-877-8339 to contact the above individual during normal business hours. The FIRS is available 24 hours a day, 7 days a week, to leave a message or question with the above individual. You will receive a reply during normal business hours.

SUPPLEMENTARY INFORMATION: This 10-member RAC advises the Secretary of the Interior on a variety of management issues associated with public land management in Wyoming. Planned agenda topics include presentations on the BLM Wyoming coal program; Greater Sage-Grouse; BLM Fire, Fuels and Aviation Management; and follow-up to previous RAC meetings. On Thursday, October 29, the meeting will begin at 10 a.m., in the Casper Field Office's Platte River Conference Room and will conclude by 6 p.m. The meeting will resume Friday, October 30, with a public comment period at 8 a.m. in the conference room and the meeting will conclude by noon. Depending on the number of persons wishing to comment and time available, the time for individual oral comments may be limited. If there are no members of the public interested in speaking, the meeting will move promptly to the next agenda item. The public may also submit written comments to the RAC by emailing cvenhuizen@blm.gov, with the subject line “RAC Public Comment” or by submitting comments during the meeting to the RAC coordinator. Typed or written comments will be provided to RAC members as part of the meeting's minutes.

Dated: September 24, 2015.
Mary Jo Rugwell,
State Director (acting).

[FR Doc. 2015-24974 Filed 10-1-15; 8:45 am]

BILLING CODE 4310-22-P